NATIONAL AERONAUTICS AND SPACE ADMINISTRATION

[Notice: (14-036)]

Notice of Information Collection

AGENCY: National Aeronautics and Space Administration (NASA).

ACTION: Notice of information collection

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 60 calendar days from the date of this publication.

ADDRESSES: Interested persons are invited to submit written comments on the proposed information collection to the Office of Information and Regulatory Affairs, Office of Management and Budget, 725 17th Street NW., Washington, DC 20503, Attention: Desk Officer for NASA.

FOR FURTHER INFORMATION CONTACT: Requests for additional information or copies of the information collection instrument(s) and instructions should be directed to Ms. Frances Teel, NASA PRA Clearance Officer, NASA Headquarters, 300 E Street SW., Mail Code JF000, Washington, DC 20546. Frances.C.Teel@nasa.gov

SUPPLEMENTARY INFORMATION:

I. Abstract

The National Aeronautics and Space Administration (NASA) is reinstating an existing information collection that is used to ensure the proper disposition of rights to inventions made in the course of NASA-funded research. Through this information collection, NASA tracks applicable inventions disclosed by its grant recipients. NASA is seeking to reinstate this information collection with the following changes: (1) Title change from Patents-Grants and Cooperative Agreements to Report of Inventions-Grants with Educational and Non-Profit Entities, and (2) an increase in the estimated number of respondents. This Federal Register notice also includes the total estimated annual cost burden to respondents or record keepers resulting from the collection of this information.

II. Method of Collection

NASA utilizes paper and electronic methods to collect information from grant recipients.

III. Data

Title: Report of Inventions-Grants with Educational and Non-Profit Entities.

OMB Number: 2700-0048.

Type of review: Reinstatement of a Previously Approved Information Collection with Change.

Affected Public: Not-for-profit institutions; Business or other for-profit; State, Local, or Tribal Government.

Estimated Number of Respondents: 6,606.

Estimated Time per Response: Variable.

Estimated Total Annual Burden Hours: 11,889.

Estimated Total Annual Cost: $391,148.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and 4) ways to minimize the burden of the collection of information on respondents, including automated collection techniques or the use of other forms of information technology.

Comments submitted in response to this notice will be summarized and included in the request for OMB approval of this information collection. They will also become a matter of public record.

Frances Teel,
NASA PRA Clearance Officer.

[FR Doc. 2014-08921 Filed 4-18-14; 8:45 am]

BILLING CODE 7510-13-P